DEPARTMENT OF ENERGY

Federal Energy Regulatory Commission

[Project No. 14628-000]

Minnesota Leased Housing Associates IV, Limited Partnership; Notice of Intent To File License Application, Filing of Pre-Application Document, Approving Use of the Alternative Licensing Process, and Requesting Cooperating Agency Status

a. Type of Filing: Notice of Intent to File License Application and Request to Use the Alternative Licensing Process.

b. Project No.: 14628-000.

c. Date Filed: July 28, 2014.

d. Submitted By: Minnesota Leased Housing Associates IV, Limited Partnership (Minnesota Housing Associates).

e. Name of Project: A-Mill Artists Loft Hydroelectric Project.

f. Location: On the Mississippi River, in the city of Minneapolis, Hennepin County, Minnesota. No federal lands are occupied by the project works or located within the project boundary.

g. Filed Pursuant to: 18 CFR 5.3 of the Commission's regulations.

h. Potential Applicant Contact: Owen Metz, 2905 Northwest Blvd., Suite 150, Plymouth, MN 55441; (763) 354-5618; email ometz@dominiuminc.com.

i. FERC Contact: Janet Hutzel at (202) 502-8675; or email at janet.hutzel@ferc.gov.

j. Minnesota Housing Associates filed its request to use the Alternative Licensing Process] on July 29, 2014. Minnesota Housing Associates provided public notice of its request on September 17, 2014. In a letter issued November 13, 2014, the Director of the Division of Hydropower Licensing approved Minnesota Housing Associates' request to use the Alternative Licensing Process.

k. Cooperating agencies: Federal, state, local, and tribal agencies with jurisdiction and/or special expertise with respect to environmental issues that wish to cooperate in the preparation of the environmental document should follow the instructions for filing such requests described in paragraph o below. Cooperating agencies should note the Commission's policy that agencies that cooperate in the preparation of the environmental document cannot also intervene. See 94 FERC ¶ 61,076 (2001).

l. With this notice, we are initiating informal consultation with the U.S. Fish and Wildlife Service under section 7 of the Endangered Species Act. We are also initiating consultation with the Minnesota State Historic Preservation Officer, as required by section 106, National Historic Preservation Act, and the implementing regulations of the Advisory Council on Historic Preservation at 36 CFR 800.2.

m. With this notice, we are designating Minnesota Housing Associates as the Commission's non-federal representative for carrying out informal consultation pursuant to section 7 of the Endangered Species Act and consultation pursuant to section 106 of the National Historic Preservation Act.

n. Minnesota Housing Associates filed a Pre-Application Document (PAD; including a proposed process plan and schedule) with the Commission, pursuant to 18 CFR 5.6 of the Commission's regulations.

o. Deadline for filing requests for cooperating agency status: 60 days from the date of this notice.

The Commission strongly encourages electronic filing. Please file requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14628-000.

p. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

q. Register online at http://www.ferc.gov/docs-filing/esubscription.asp to be notified via email of new filing and issuances related to this or other pending projects. For assistance, contact FERC Online Support.

Dated: November 13, 2014.
Kimberly D. Bose,
Secretary.

[FR Doc. 2014-28014 Filed 11-25-14; 8:45 am]

BILLING CODE 6717-01-P